DEPARTMENT OF COMMERCE

National Oceanic and Atmospheric Administration

RIN 0648-XP02

Marine Mammals; File No. 633-1763

AGENCY: National Marine Fisheries Service (NMFS), National Oceanic and Atmospheric Administration (NOAA), Commerce.

ACTION: Notice; withdrawal of application.

SUMMARY: Notice is hereby given that the Center for Coastal Studies (CCS), P.O. Box 1036,

Provincetown, MA 02657, has withdrawn its application for an amendment to scientific research Permit No. 633-1763.

ADDRESSES: The documents related to this action are available for review upon written request or by appointment in the following offices:

Permits, Conservation and Education Division, Office of Protected Resources, NMFS, 1315 East-West Highway, Room 13705, Silver Spring, MD 20910; phone (301) 713-2289; fax (301) 427-2521;

Northeast Region, NMFS, One Blackburn Drive, Gloucester, MA 01930-2298; phone (978) 281-9300; fax (978) 281-9394; and

Southeast Region, NMFS, 263 13th Avenue South, Saint Petersburg, FL 33701; phone (727) 824-5312; fax (727) 824-5309.

FOR FURTHER INFORMATION CONTACT: Kristy Beard or Kate Swails, (301) 713-2289.

SUPPLEMENTARY INFORMATION: On October 16, 2008 a notice was published in the Federal Register (73 FR 61398) that an amendment application had been filed by CCS. The amendment to Permit No. 633-1763 was requested under the authority of the Marine Mammal Protection Act of 1972, as amended (16 U.S.C. 1361 et seq.), the regulations governing the taking and importing of marine mammals (50 CFR part 216), and the Endangered Species Act of 1973, as amended (16 U.S.C. 1531 et seq.). Permit No. 633-1763, issued on April 21, 2005 (70 FR 22299), authorizes the permit holder to harass North Atlantic right whales (Eubalaena glacialis) during close approaches for aerial and vessel surveys with associated photo-identification and behavioral observations in the Gulf of Maine, Cape Cod Bay, Great South Channel, and Georgia Bight; and the collection and export of sloughed right whale skin. The applicant has withdrawn their application.

Dated: April 28, 2009.
Tammy C. Adams,
Acting Chief, Permits, Conservation and Education Division, Office of Protected Resources, National Marine Fisheries Service.

[FR Doc. E9-10168 Filed 5-1-09; 8:45 am]

BILLING CODE 3510-22-S